AGENCY FOR INTERNATIONAL DEVELOPMENT

Notice of Meeting

Pursuant to the Federal Advisory Committee Act, notice is hereby given of a public meeting of the Board for International Food and Agricultural Development (BIFAD), Food Security and Nutrition in the Context of COVID-19: Impacts and Interventions. The meeting will be held on June 4, 2020 from 1:30 to 3:30 p.m. EDT at http://www.aplu.org/projects-and-initiatives/international-programs/bifad/bifad-meetings.html. A public comment period is scheduled from 3:10 to 3:30 p.m., EDT.

The Coronavirus Disease-19 (COVID-19) pandemic will have secondary impacts on all intermediate results of the U.S. Government Global Food Security Strategy, including agricultural productivity, livelihoods, markets, trade and policy actions, food consumption and nutrition, hygiene, and resilience. The Board for International Food and Agricultural Development (BIFAD), an advisory committee to the U.S. Agency for International Development (USAID), will convene a virtual public meeting to share the thinking of leading experts in food security and nutrition that relates to COVID-19 impacts. This will include consideration of the most promising short-, medium-, and long-term responses across several key areas: Farm-level productivity, markets and trade, access to finance, nutrition, safe and hygienic food systems, gender, and national and local policy. The meeting will include presentations of credible modeling data about the scale and breadth of anticipated food security impacts in the developing world and a summary spanning near to longer-term interventions and guidance that may help to mitigate COVID-19 impacts. The meeting will also provide leading sources of curated information (e.g., landing pages for information related to the crisis and response). The meeting is intended to help to support decision making by USAID and its partners and stakeholders working to advance food security, nutrition, and resilience at global, regional and national levels.

On the basis of testimony, including public comments, shared at the meeting, BIFAD will provide formal findings, conclusions, and recommendations to the Agency on best-bet operational and programmatic investments.

BIFAD is a seven-member, presidentially appointed advisory board to USAID established in 1975 under Title XII of the Foreign Assistance Act, as amended. The provisions of Title XII concern bringing the assets of U.S. universities to bear on development challenges in agriculture and food security, and the BIFAD's role is to help carry out this function.

Participants may register at http://www.aplu.org/projects-and-initiatives/international-programs/bifad/bifad-meetings.html. For questions about registration, please contact Susan Johnson at (202) 478-6023 or sjohnson@aplu.org. For questions about BIFAD, please contact Clara Cohen, Designated Federal Officer for BIFAD in the Bureau for Resilience and Food Security, USAID at ccohen@usaid.gov or (202) 712-0119.

Clara Cohen,
Designated Federal Officer, BIFAD.

[FR Doc. 2020-10297 Filed 5-13-20; 8:45 am]

BILLING CODE P